DEPARTMENT OF HEALTH AND HUMAN SERVICES

Innovative Administration Systems for Vaccines; Meeting

AGENCY: Office of the Assistant Secretary for Public Health Emergency Preparedness, HHS.

ACTION: Notice of meeting.

SUMMARY: The Department of Health and Human Services (DHHS) is announcing the following public meeting: Innovative Administration Systems for Vaccines. The topic to be discussed is the latest scientific and clinical developments in innovative administration systems for vaccines. These discussions will facilitate the development of vaccine delivery systems relative to the storage and deployment of vaccines and the rapid implementation of mass vaccination programs. The meeting will include sessions on Jet injector, Transdermal (microneedles, patches) and Transmucosal (oral, nasal, aerosol) systems. A detailed agenda, once finalized, will be posted on the meeting Web site.

Dates and Time: The meeting will be held on December 18,2003, from 8:30 a.m. to 5 p.m. and on December 19, 2003 from 8:30 a.m. to 4 p.m.

Location: The meeting will be held at The DoubleTree Hotel, 1750 Rockville Pike, Rockville, Maryland.

FOR FURTHER INFORMATION CONTACT: Inquiries can be addressed to: the e-mail address vaccine750@saic.com or by telephone to 301-228-3124.

Registration: Registration is available at the following Web site until November 26, 2003: http://www.seeuthere.com/event/m2c640-854475248370. A nominal registration fee of $30 will be charged those registering up to November 26, 2003. After November 26 attendee registration will occur on-site at a $40 registration fee.

Limited space is available for exhibitors. Potential exhibitors are asked to inquire via the e-mail address or phone number listed above. An exhibitor fee of $125 will be charged.

Dated: November 1, 2003.
Jerome Donlon,
Senior Science Adviser, HHS.

[FR Doc. 03-28084 Filed 11-6-03; 8:45 am]

BILLING CODE 4150-37-P